DEPARTMENT OF HOMELAND SECURITY

Coast Guard

[CGD13-03-011]

Draft Environmental Impact Statement; Proposed Bridge across the Lake Washington Ship Canal and Duwamish River in Seattle, Washington

AGENCY: Coast Guard, DHS.

ACTION: Notice of intent; notice of public meeting.

SUMMARY: The U.S. Coast Guard, as the lead federal agency, and in cooperation with the Seattle Monorail Project, intends to prepare and circulate a Draft Environmental Impact Statement (DEIS) for a proposed bridge across the Lake Washington Ship Canal and Duwamish River in Seattle, Washington. A Coast Guard bridge permit is required for approval of the location and plans for the bridge project before construction can begin. The U.S. Army Corps of Engineers will be a cooperating agency.

DATES: Comments must be received on or before April 24, 2003.

The public scoping meeting will be held on Wednesday, April 9, 2003 from 10 a.m. to 12 noon.

ADDRESSES: Comments may be mailed to Commander (oan), Thirteenth Coast Guard District, 915 Second Avenue, Seattle WA 98174-1067.

The public scoping meeting will be held at the Seattle Monorail Project, 1904 3rd Avenue, Suite 525, Seattle WA 98101.

FOR FURTHER INFORMATION CONTACT: Mr. Austin Pratt, Bridge Administration, Telephone: (206) 220-7282.

SUPPLEMENTARY INFORMATION: This notice of intent is published as required by regulations of the Council on Environmental Quality at 40 CFR 1501.7.

The proposed project would construct a new, fixed monorail bridge over the Lake Washington Ship Canal near the existing Ballard Bridge (15th Avenue NW) in Seattle, Washington as part of the construction project for a 14-mile elevated monorail line along the route approved and required by the City of Seattle voters in the November 5, 2002, general election in Seattle, Washington.

The Seattle Monorail Project has already conducted a number of state scoping meetings with the public and affected federal, state, regional and local agencies pursuant to the Washington State Environmental Policy Act. The comments from that scoping process will be available to the Coast Guard, in addition to the comments from agencies and the public submitted during the Coast Guard's scoping process. Consultation with federal resource agencies including National Oceanic and Atmospheric Administration (NOAA), National Marine Fisheries Service (NMFS) and U.S. Fish and Wildlife Service will be conducted pursuant to the Endangered Species Act. Consultation with the Washington State Historic Preservation Officer will be conducted pursuant to section 106 of the National Historical Preservation Act.

The Coast Guard intends to enter into an agreement with the Seattle Monorail Project to produce and issue a joint EIS document that satisfies the requirements of both the National Environmental Policy Act and the Washington State Environmental Policy Act.

Alternatives will include no action and alternatives that comply with the purpose and need for the Green Line route as set out in the Seattle Popular Monorail Plan specified by the Seattle voters. Copies of the Seattle Popular Monorail Plan and additional information on the proposed Green Line route are available from the Seattle Monorail Project Web site at http://www.elevated.org.

Significant issues to be evaluated include threatened and endangered species, and critical habitat, and impacts on historic properties and navigation.

A public scoping meeting will be held on Wednesday, April 9, 2003 from 10 a.m. to 12 noon at the Seattle Monorail Project, 1904 3rd Avenue, Suite 525, Seattle WA 98101. Interested and affected parties are invited to attend. Written comments are invited from all interested parties to assure that all significant issues are identified and that the full range of alternatives and impacts of the proposed project are addressed. A public hearing will be held after the Draft EIS is issued for public and agency review and comment.

Dated: March 7, 2003.
Erroll Brown,
Rear Admiral, U.S. Coast Guard, Commander, Thirteenth Coast Guard District.

[FR Doc. 03-7077 Filed 3-24-03; 8:45 am]

BILLING CODE 4910-15-P